INTERNATIONAL TRADE COMMISSION

[Investigation No. 337-TA-1057; (Rescission Proceeding)]

Certain Robotic Vacuum Cleaning and Components Thereof Such as Spare Parts; Commission Determination To Institute a Rescission Proceeding; Rescission of the Remedial Orders; Termination of the Proceeding

AGENCY: U.S. International Trade Commission.

ACTION: Notice.

SUMMARY: Notice is hereby given that the U.S. International Trade Commission has determined to institute a rescission proceeding, to rescind a November 30, 2018 limited exclusion order and four cease-and-desist orders (“the remedial orders”), and to terminate the rescission proceeding.

FOR FURTHER INFORMATION CONTACT: Robert Needham, Office of the General Counsel, U.S. International Trade Commission, 500 E Street SW, Washington, DC 20436, telephone (202) 708-5468. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on (202) 205-1810.

SUPPLEMENTARY INFORMATION: The Commission instituted an investigation on May 23, 2017, based on a complaint filed by iRobot Corporation of Bedford, Massachusetts (“iRobot”). 82 FR 23593-94. The complaint, as supplemented, alleged violations of section 337 of the Tariff Act of 1930, as amended, 19 U.S.C. 1337, in the importation into the United States, the sale for importation, and the sale within the United States after importation of certain robotic vacuum cleaning devices and components thereof that infringe certain claims of, inter alia, U.S. Patent No. 9,038,233 (“the '233 patent”). Id. The Commission's notice of investigation named as respondents, inter alia, Shenzhen Silver Star Intelligent Technology Co., Ltd., of Shenzhen, China (“Silver Star”), and bObsweep USA, of Henderson, Nevada, and bObsweep Inc., of Toronto, Canada (together, “bObsweep”). Id. at 23593. The Office of Unfair Import Investigations did not participate in the investigation. Id.

On November 30, 2018, the Commission found, inter alia, that Silver Star and bObsweep violated section 337 with respect to the '233 patent, and issued the remedial orders.

On May 7, 2019, iRobot, bObsweep, and Silver Star filed a joint petition for rescission of the limited exclusion order and the cease and desist orders that issued on November 30, 2018. The parties state that they have entered into settlement agreements that resolve all disputes among the parties regarding the subject matter of the investigation. No response to the petition was filed.

Having considered the petition, the Commission has determined to institute a rescission proceeding and to rescind the remedial orders. The rescission proceeding is hereby terminated.

The authority for the Commission's determination is contained in section 337 of the Tariff Act of 1930, as amended (19 U.S.C. 1337), and in part 210 of the Commission's Rules of Practice and Procedure (19 CFR part 210).

By order of the Commission.
Issued: June 4, 2019.
Lisa Barton,
Secretary to the Commission.

[FR Doc. 2019-12088 Filed 6-7-19; 8:45 am]

BILLING CODE 7020-02-P